DEPARTMENT OF VETERANS AFFAIRS

[OMB Control No. 2900-0864]

Agency Information Collection Activity: VA Post-Separation TAP Longitudinal Survey

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before October 15, 2019.

ADDRESSES: Submit written comments on the collection of information through Federal Docket Management System (FDMS) at www.Regulations.gov or Nancy Kessinger, Veterans Benefits Administration (20M3), Department of Veterans Affairs, 810 Vermont Avenue NW, Washington, DC 20420 or email to nancy.kessinger@va.gov. Please refer to “OMB Control No. 2900-0864” in any correspondence. During the comment period, comments may be viewed online through FDMS.

FOR FURTHER INFORMATION CONTACT: Danny S. Green at (202) 421-1354).

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 112-56 Sec 221-225.

Title: Department of Veterans Affairs (VA) Post-Separation Transition Assistance Program (TAP) Longitudinal Survey.

OMB Control Number: 2900-0864.

Type of Review: New collection.

Abstract: This collection effort is the second phase of the PSTAP and participants are respondents of the original collection under the subject control number approved on 4 Apr 19. The PSTAP Longitudinal Survey will be implemented by VA to assess how the TAP training for Transitioning Servicemembers (TSMs) prepares Veterans for civilian life and its effects on long-term Veteran outcomes. This new information collection request (ICR) will be conducted once per year and is designed as a longitudinal survey in conjunction with a cross sectional survey previously submitted to OMB. The survey population will include servicemembers who participated in the cross-sectional survey and voluntarily agreed to participate in the longitudinal survey. VA will use email, other electronic communications and mail methods to administer the survey, limiting the burden on respondents. The survey will be administered to gauge the long-term effectiveness of the Transition Assistance Program (TAP) by: (1) Examining the relationship between attendance in TAP courses and the use of VA Benefits; (2) analyzing the effect of participation in TAP courses on the long-term outcomes of Veterans in the broad life domains of employment, education, health and social relationships, financial, social connectivity and overall satisfaction and well-being, and; (3) identifying areas of improvement for TAP and the broader transition process to guide training and/or operational activities aimed at enhancing the quality of service provided to transitioning service members, Veterans, their families and caregivers.

Affected Public: Individuals.

Estimated Annual Burden: 1,683 hours.

Estimated Average Burden per Respondent: 18.5 minutes.

Frequency of Response: Annual.

Estimated Number of Respondents: 5,457.

By direction of the Secretary.
Danny S. Green,
Interim VA Clearance Officer, Office of Quality, Performance, and Risk, Department of Veterans Affairs.

[FR Doc. 2019-19748 Filed 9-11-19; 8:45 am]

BILLING CODE 8320-01-P